DEPARTMENT OF HEALTH AND HUMAN SERVICES

National Institutes of Health

National Human Genome Research Institute; Amended Notice of Meeting

Notice is hereby given of a change in the meeting of the National Advisory Council for Human Genome Research, April 25, 2025, 1:00 p.m. to April 25, 2025, 4:00 p.m., National Institutes of Health, 6700B Rockledge Drive, Bethesda, MD 20892 which was published in the Federal Register on April 7, 2025, 90 FR 15009.

Amendment to change the meeting date from April 25, 2025 to June 18-19, 2025. The meeting is closed to the public.

Dated: April 25, 2025.
David W. Freeman,
Supervisory Program Analyst, Office of Federal Advisory Committee Policy.

[FR Doc. 2025-07466 Filed 4-29-25; 8:45 am]

BILLING CODE 4140-01-P